DEPARTMENT OF ENERGY

Federal Energy Regulatory Commission

[Docket No. CP01-388-000]

Transcontinental Gas Pipe Line Corporation; Notice of Application

June 27, 2001.

Take notice that on June 18, 2001, Transcontinental Gas Pipe Line Corporation (Transco), P.O. Box 1396, Houston, Texas 77251-1096, filed in Docket No. CP01-388-000 an application pursuant to section 7(c) of the Natural Gas Act (NGA) and Part 157(A) of the regulations of the Federal Energy Regulatory Commission (Commission), for a certificate of public convenience and necessity authorizing Transco's Momentum Expansion Project (Momentum), an incremental expansion of Transco's existing pipeline system which will provide 525,896 dekatherms per day (dt/d) of new firm transportation capacity to serve increased market demand in the Southeastern region of the United States by a proposed in-service date of May 1, 2003, all as more fully set forth in the application which is on file with the Commission and open to public inspection. The filing may be viewed on the web at http://www.rimsweb1.ferc.fed.us/rims.q?rp2-intro (call 202-208-2222 for assistance).

Specifically, Transco states that it proposes to construct and operate the following facilities on its mainline pipeline system:

1. 9.22 miles of 42-inch diameter pipeline loop from Mile Post 632.89 on Transco's mainline in Amite County, Mississippi to Mile Post 642.03 in Pike County, Mississippi (the Magnolia Loop);

2. 7.90 miles of 42-inch diameter pipeline loop from Mile Post 732.65 on Transco's mainline in Jones County, Mississippi to Mile Post 740.50 (the suction side of Compressor Station No. 80) in Jones County (the Seminary Loop);

3. 16.06 miles of 42-inch diameter pipeline loop from Mile Post 756.94 on Transco's mainline in Clarke County, Mississippi to Mile Post 772.80 in Clarke County (the Hale Loop);

4. 30.00 miles of 48-inch diameter pipeline loop from Mile Post 860.78 on Transco's mainline in Perry County, Alabama to Mile Post 890.61 (the suction side of Compressor Station No. 100) in Chilton County, Alabama (the Jones Loop);

5. 3.49 miles of 42-inch diameter pipeline loop from Mile Post 905.74 on Transco's mainline in Chilton County, Alabama to Mile Post 909.20 in Chilton County (the Richville Loop);

6. 21.54 miles of 42-inch diameter pipeline loop from Mile Post 926.87 (the discharge side of Compressor Station No. 105) on Transco's mainline in Coosa County, Alabama to Mile Post 948.13 in Tallapoosa County, Alabama (the Kellyton Loop);

7. 7.51 miles of 42-inch diameter pipeline loop from Mile Post 1,124,74 (the discharge side of Compressor Station No. 130) on Transco's mainline in Madison County, Georgia to Mile Post 1,132.23 in Elbert County, Georgia (the Bowman Loop);

8. 4.18 miles of 42-inch diameter pipeline loop from Mile Post 1,201.71 on Transco's mainline in Spartanburg County, South Carolina to Mile Post 1,205.81 (the suction side of Compressor Station No. 140) in Spartanburg County (the Greenville Loop);

9. The installation of one new 15,000 horsepower compressor unit at Transco's existing Compressor Station No. 90, which is located in Marengo County, Alabama;

10. The installation of one new 15,000 horsepower compressor unit at Transco's existing Compressor Station No. 105, which is located in Coosa County, Alabama;

11. The installation of one new 15,000 horsepower compressor unit at Transco's existing Compressor Station No. 110, which is located in Randolph County, Alabama;

12. The uprating of an existing 18,975 horsepower compressor unit (Unit No. 3) to 22,500 horsepower at Transco's existing Compressor Station No. 115, which is located in Coweta County, Georgia;

13. The installation of one new 15,000 horsepower compressor unit at Transco's existing Compressor Station No. 125, which is located in Walton County, Georgia;

14. The installation of gas coolers for existing Unit No. 18 at Transco's existing Compressor Station No. 130, which is located in Madison County, Georgia; and

15. The installation of one new 15,000 horsepower compressor unit with gas coolers and the installation of high-pressure fuel injection on existing Unit No. 10 at Transco's existing Compressor Station No. 160, which is located in Rockingham County, North Carolina.

Transco states that it estimates that the proposed facilities will cost approximately $300 million. Transco states that the construction and operation of the proposed facilities will not have a significant impact on human health or the environment. The proposed facilities, for the most part, will be installed either entirely within or immediately adjacent to existing pipeline or utility rights-of-way and Transco's existing compressor station yards. Transco certifies that the proposed facilities will be designed, constructed, inspected, tested, operated and maintained in accordance with all applicable safety standards and plans for maintenance and inspection.

Transco states that it held an open season from August 31 through September 29, 2000, during which it received written requests from potential shippers desiring new firm transportion service to be made available as a result of the Momentum project. As a result of the open season, Transco executed precedent agreements with the following nineteen shippers: Athens Development Company, L.L.C. (85,000 dt/d); Calpine Energy Services, L.P. (30,000 dt/d); Cardinal FG (3,400 dt/d); Cargill Inc. (750 dt/d); Carolina Power & Light Company (75,000 dt/d); City of Buford, Georgia (2,070 dt/d); City of Covington, Georgia (518 dt/d); City of Elberton, Georgia (207 dt/d); City of Lawrenceville, Georgia (10,350 dt/d); City of Madison, Georgia (207 dt/d); City of Sugar Hill, Georgia (776 dt/d); City of Winder, Georgia (518 dt/d); Clinton-Newberry Natural Gas Authority (1,500 dt/d); Exelon Generating Company, L.L.C. (80,000 dt/d); Fort Hill Natural Gas Authority (3,000 dt/d); Genpower Anderson, L.L.C. (60,000 dt/d); Hartwell Development Company, L.L.C. (85,000 dt/d); Oglethorpe Power Corporation (An Electric Membership Corporation) (81,600 dt/d); and Sylacauga Utilities Board (6,000 dt/d). Transco states that 100% of the firm capacity to be created by the Momentum project is subscribed to by these nineteen shippers.

Transco states that the firm transportation service under the Momentum project will be provided under Rate Schedule FT of Transco's FERC Gas Tariff, Volume No. 1, and Transco's blanket certificate under Part 284 (G) of the Commission's regulations. Transco states that the proposed cost-based resources rates for the Momentum project are based on a straight fixed-variable rate design methodology and an incremental cost of service.

Transco states that it requests that the Commission issue a preliminary determination on the non-environmental aspects of this proposal by December 1, 2001 and a final order granting the authorizations requested herein by April 15, 2002.

Any questions regarding this application should be directed to Toi Anderson, Transcontinental Gas Pipe Line Corporation, P.O. 1396, Houston, Texas 77251-1396 or call (713) 215-4540. In addition, Transco states that it will establish a toll-free telephone number so that interested parties can call with questions about the Momentum project.

There are two ways to become involved in the Commission's review of this project. First, any person wishing to obtain legal status by becoming a party to the proceedings for this project should, on or before July 18, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-16639 Filed 7-2-01; 8:45 am]

BILLING CODE 6717-01-M